DEPARTMENT OF AGRICULTURE

Animal and Plant Health Inspection Service

7 CFR Part 301

[Docket No. 04-130-2]

Asian Longhorned Beetle; Addition to Quarantined Areas

AGENCY: Animal and Plant Health Inspection Service, USDA.

ACTION: Affirmation of interim rule as final rule.

SUMMARY: We are adopting as a final rule, without change, an interim rule that amended the Asian longhorned beetle regulations by adding portions of Middlesex and Union Counties, NJ, to the list of quarantined areas and restricting the interstate movement of regulated articles from those areas. That action was necessary to prevent the artificial spread of the Asian longhorned beetle into noninfested areas of the United States.

DATES: The interim rule became effective on January 24, 2005.

FOR FURTHER INFORMATION CONTACT: Mr. Michael B. Stefan, Director of Emergency Programs, Pest Detection and Management Programs, PPQ, APHIS, 4700 River Road Unit 134, Riverdale, MD 20737-1236; (301) 734-7338.

SUPPLEMENTARY INFORMATION:

Background

The Asian longhorned beetle (ALB) is an insect native to China, Japan, Korea, and the Isle of Hainan. It is a destructive pest of hardwood trees. In addition, nursery stock, logs, green lumber, firewood, stumps, roots, branches and debris of half an inch or more in diameter are also subject to infestation. The ALB regulations (7 CFR 301.51-1 through 301.51-9) restrict the interstate movement of regulated articles from quarantined areas to prevent the artificial spread of ALB to noninfested areas of the United States.

The regulations in § 301.51-3(a) provide that the Administrator of the Animal and Plant Health Inspection Service (APHIS) will list as a quarantined area each State, or each portion of a State, in which ALB has been found by an inspector, in which there is reason to believe ALB is present, or because of the area's inseparability for quarantine enforcement purposes from localities where ALB has been found.

In an interim rule effective January 24, 2005, and published in the Federal Register on January 28, 2005 (70 FR 4003-4005, Docket No. 04-130-1), we amended the ALB regulations by adding portions of Middlesex and Union Counties, NJ, to the list of quarantined areas in § 301.51-3(c). That action was necessary on an emergency basis to help prevent the artificial spread of ALB to noninfested areas of the United States.

Comments on the interim rule were required to be received on or before March 29, 2005. We did not receive any comments. Therefore, for the reasons given in the interim rule, we are adopting the interim rule as a final rule.

This action also affirms the information contained in the interim rule concerning Executive Order 12866 and the Regulatory Flexibility Act, Executive Orders 12372 and 12988, and the Paperwork Reduction Act.

Further, for this action, the Office of Management and Budget has waived its review under Executive Order 12866.

List of Subjects in 7 CFR Part 301

Agricultural commodities, Plant diseases and pests, Quarantine, Reporting and recordkeeping requirements, Transportation.

PART 301—DOMESTIC QUARANTINE NOTICES

Accordingly, we are adopting as a final rule, without change, the interim rule that amended 7 CFR part 301 and that was published at 70 FR 4003-4005 on January 28, 2005.

Done in Washington, DC, this 13th day of April 2005.
Elizabeth E. Gaston,
Acting Administrator, Animal and Plant Health Inspection Service.

[FR Doc. 05-7766 Filed 4-18-05; 8:45 am]

BILLING CODE 3410-34-P